NUCLEAR REGULATORY COMMISSION

10 CFR Part 72

[NRC-2019-0126]

RIN 3150-AK35

List of Approved Spent Fuel Storage Casks: Holtec International Storage, Transport and Repository (HI-STAR) 100 Storage System, Certificate of Compliance No. 1008, Amendment No. 3

AGENCY: Nuclear Regulatory Commission.

ACTION: Direct final rule; confirmation of effective date.

SUMMARY: The U.S. Nuclear Regulatory Commission (NRC) is confirming the effective date of November 5, 2019, for the direct final rule that was published in the Federal Register on August 22, 2019. This direct final rule amended the NRC's spent fuel storage regulations by revising the Holtec International Storage, Transport and Repository (HI-STAR) 100 Storage System listing within the “List of approved spent fuel storage casks” to include Amendment No. 3 to Certificate of Compliance No. 1008.

DATES: Effective date: The effective date of November 5, 2019, for the direct final rule published August 22, 2019 (84 FR 43669), is confirmed.

ADDRESSES: Please refer to Docket ID NRC-2019-0126 when contacting the NRC about the availability of information for this action. You may obtain publicly-available information related to this action by any of the following methods:

• Federal Rulemaking website: Go to https://www.regulations.gov and search for Docket ID NRC-2019-0126. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, proposed changes to the technical specifications, and preliminary safety evaluation report are available in ADAMS under Accession No. ML19137A299. The final amendment to the certificate, final changes to the technical specifications, and final safety evaluation report can also be viewed in ADAMS under Accession No. ML19270D276.

• NRC's PDR: You may examine and purchase copies of public documents at the NRC's PDR, Room O1-F21, One White Flint North, 11555 Rockville Pike, Rockville, Maryland 20852.

FOR FURTHER INFORMATION CONTACT: Bernard H. White, Office of Nuclear Material Safety and Safeguards; telephone: 301-415-6577; email: Bernard.White@nrc.gov or Solomon Sahle, Office of Nuclear Material Safety and Safeguards; telephone: 301-415-3781; email: Solomon.Sahle@nrc.gov. Both are staff of the U.S. Nuclear Regulatory Commission, Washington, DC 20555-0001.

SUPPLEMENTARY INFORMATION: On August 22, 2019 (84 FR 43669), the NRC published a direct final rule amending § 72.214 of title 10 of the Code of Federal Regulations, “List of approved spent fuel storage casks,” to include Amendment No. 3 to Certificate of Compliance No. 1008 for the Holtec International Storage, Transport and Repository (HI-STAR) 100 Storage System. Specifically, Amendment No. 3 revises the technical specifications to: Include the multipurpose canister (MPC)-32 for storage of pressurized-water reactor spent fuel in the HI-STAR 100 Storage System; include the Metamic neutron absorber for MPC-32, MPC-24, and MPC-68; credit the soluble boron in criticality analyses for both MPC-32 and MPC-24; incorporate standard system features and ancillaries such as the forced helium dehydration; allow for horizontal storage of the casks; provide updated drawings; and revise the MPC design pressure for accident condition to 200 pounds per square inch gauge. Amendment No. 3 also makes other administrative changes to the technical specifications.

In the direct final rule, the NRC stated that if no significant adverse comments were received, the direct final rule would become effective on November 5, 2019. The NRC did not receive any comments on the direct final rule. Therefore, this direct final rule will become effective as scheduled.

Dated at Rockville, Maryland, this 4th day of October, 2019.
For the Nuclear Regulatory Commission.
Pamela J. Shepherd-Vladimir,
Acting Chief, Regulatory Analysis and Rulemaking Support Branch, Division of Rulemaking, Office of Nuclear Material Safety and Safeguards.

[FR Doc. 2019-22148 Filed 10-9-19; 8:45 am]

BILLING CODE 7590-01-P